DEPARTMENT OF THE INTERIOR

Bureau of Land Management

[13XL5017AP LLUTG01100 L51010000.ER0000.LVRWJ13J8060 24 1A]

Notice of Availability of the Draft Environmental Impact Statement for the Enefit American Oil Utility Corridor Project, Uintah County, Utah

AGENCY: Bureau of Land Management, Interior.

ACTION: Notice of availability.

SUMMARY: In accordance with the National Environmental Policy Act of 1969, as amended (NEPA), and the Federal Land Policy and Management Act (FLPMA) of 1976, as amended, the Bureau of Land Management (BLM) has prepared a Draft Environmental Impact Statement (EIS) for the Enefit American Oil Utility Corridor Project. Through this Notice, the BLM is announcing a 60-day public comment period on the draft.

DATES: To ensure comments will be considered, the BLM must receive written comments on the Enefit American Oil Utility Corridor Project Draft EIS within 60 days following the date on which the Environmental Protection Agency publishes its Notice of Availability of the Draft EIS in the Federal Register. The BLM will announce future meetings and any other public involvement activities at least 15 days in advance through public notices, media releases, and/or mailings.

ADDRESSES: Copies of the Enefit American Oil Utility Corridor Project Draft EIS are available for public inspection in the BLM Vernal Field Office, 170 South 500 East, Vernal, Utah 84078. Interested persons may also review the Draft EIS on the Internet at: https://eplanning.blm.gov/epl-front-office/eplanning/nepa/nepa_register.do.

FOR FURTHER INFORMATION CONTACT: Stephanie Howard, NEPA Coordinator; telephone 435-781-4469; address 170 South 500 East, Vernal, Utah 84078; email BLM_UT_Vernal_Comments@blm.gov. Persons who use a telecommunications device for the deaf (TDD) may call the Federal Information Relay Service (FIRS) at 1-800-877-8339 to contact the above individual during normal business hours. The FIRS is available 24 hours a day, 7 days a week, to leave a message or question with the above individual. Replies are provided during normal business hours.

SUPPLEMENTARY INFORMATION: Enefit American Oil (Enefit) submitted five rights-of-way (ROW) applications under Title V of FLPMA. Collectively, these ROW applications are known as the Enefit American Oil Utility Corridor Project. The Project involves three pipeline ROWs, a ROW for a 138-kV power line, and a ROW grant to widen an existing road. The project area is located in the southern portion of Townships 8-10 South, Ranges 24-25 East, Salt Lake Meridian, in Uintah County, Utah, approximately 12 miles southeast of Bonanza Utah.

The BLM is the lead Federal agency for this Draft EIS. Cooperating agencies include the Environmental Protection Agency Region 8, Corps of Engineers Utah Regulatory Office, Fish and Wildlife Service Utah Field Office, Utah's Public Lands Policy and Coordination Office, and Uintah County.

The BLM published a Notice of Intent (NOI) to prepare an EIS for this project in the Federal Register on July 1, 2013, 78 FR 39313. Public scoping in response to the NOI and meetings resulted in 260 submittals, including letters from Federal, State, and local agencies, special interest groups, corporations, comment forms, and email messages. Comments focused on applicants' interests and objectives, project description, climate and air quality, soil and water, vegetation, fish and wildlife, cultural resources, Native American concerns, paleontological resources, visual resources, wilderness characteristics, travel management, lands and realty, social and economic conditions, environmental justice, health and safety, solid and hazardous waste management, and indirect and cumulative impacts.

The Draft EIS describes and analyzes the impacts of the Utility Corridor Project and the No Action Alternative. The following is a summary of the alternatives:

1. Proposed Action—The proposed action consists of approval of five ROW requests for: (a) 19 miles of water supply lines (116 acres); (b) 8.8 miles of buried natural gas supply lines (52.6 acres); (c) 11.2 miles of buried oil product line (68.3 acres); (d) the upgrade and improvement of 5.7 miles of Dragon Road (41.7 acres); and, (e) 30 miles of 138-kV power line (501.4 acres). The proposed action also includes the utilization of some temporary lay-down areas during construction of the pipelines (31.2 acres).

2. No Action Alternative—Under the No Action Alternative, the ROWs listed in the Proposed Action Alternative would be denied.

Enefit has applied for the ROW across public land to facilitate utilities access to and transport finished product from its South Project. The South Project is located entirely on private land and involves accessing privately-owned oil shale mineral resources. The South Project will include development of a 7,000-9,000-acre commercial oil shale mining, retorting, and upgrading operation in Uintah County. The South Project is anticipated to produce 50,000 barrels of oil per day at full build out for a period of up to 30 years utilizing oil shale ore rock mined from Enefit's private property holdings.

Because of its location on fee surface and fee minerals, the South Project is outside of the jurisdiction of the BLM. As explained in the Draft EIS, it is expected to reach full build out regardless of whether or not the BLM approves the Proposed Action.

Because of the relationship between the South Project and the Proposed Action, the Draft EIS evaluates the environmental impacts of the South Project as indirect effects of the Proposed Action. Based on the impact analysis, on-site, landscape, and compensatory conservation and mitigation actions have been identified in the Draft to achieve applicable resource objectives.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10

Jenna Whitlock,
Acting State Director.

[FR Doc. 2016-08118 Filed 4-7-16; 8:45 am]

BILLING CODE 4310-DQ-P